DEPARTMENT OF THE INTERIOR

Bureau of Land Management

[LLORE00000-L58820000.PE0000.LXRSEE990000; HAG10-0135]

Notice of Intent To Solicit Nominations, Western Oregon Resource Advisory Committees

AGENCY: Bureau of Land Management, Interior.

ACTION: Notice of Call for Nominations.

SUMMARY: The Secretary of the Interior is requesting 64 nominations for representatives to serve on the Coos Bay, Eugene, Medford, Roseburg, and Salem District Resource Advisory Committees (RACs). The Committees will advise the Secretary, through the Bureau of Land Management (BLM), on the selection and prioritization of projects funded under Title II of the Secure Rural Schools and Community Self-Determination Act. Terms will begin on the date of appointment and will expire on September 30, 2013.

DATES: Submit nomination packages to one or more of the addresses listed below, on or before June 1, 2010.

ADDRESSES: Advisory Council nomination forms are available at the District Offices in western Oregon, and completed nominations should be submitted to the office of the specific RAC where the applicant would serve:

Coos Bay District Resource Advisory Committee: Glenn Harkleroad, 1300 Airport Lane, North Bend, Oregon 97459, (541) 756-0100.

Eugene District Resource Advisory Committee: Pat Johnston, 3106 Pierce Parkway, Suite E, Springfield, Oregon 97477, (541) 683-6600.

Medford District Resource Advisory Committee: Tim Reuwsaat, 3040 Biddle Road, Medford, Oregon 97504, (541) 618-2200.

Roseburg District Resource Advisory Committee: Jake Winn, 777 NW. Garden Valley Blvd., Roseburg, Oregon 97470, (541) 440-4930.

Salem District Resource Advisory Committee: Trish Hogervorst, 1717 Fabry Road, SE., Salem, Oregon 97306, (503) 375-5657.

FOR FURTHER INFORMATION CONTACT: Pam Robbins, Oregon/Washington Bureau of Land Management, Oregon State Office, P.O. Box 2965, Portland, Oregon 97208, (503) 808-6306; pam_robbins@blm.gov.

SUPPLEMENTARY INFORMATION: The Secure Rural Schools and Community Self Determination Act was extended to provide stability for local counties by compensating them, in part, for the decrease in funds formerly derived from the harvest of timber on Federal lands. Pursuant to the Act, the five Committees serve western Oregon BLM districts that contain Oregon and California grant lands and Coos Bay Wagon Road grant lands. Committees consist of 15 local citizens representing a wide array of interests.

The RACs provide a mechanism for local community collaboration with Federal land managers as they select projects to be conducted on Federal lands or that will benefit resources on Federal lands using funds under Title II of the Act.

Committee membership must be balanced in terms of the categories of interest represented. Prospective members are advised that membership on a Resource Advisory Committee calls for a substantial commitment of time and energy.

Any individual or organization may nominate one or more persons to serve on the Committees. Individuals may also nominate themselves or others. Nominees must reside within one of the counties that are (in whole or in part) within the BLM District boundaries of the Committee(s) on which membership is sought. A person may apply for more than one Committee. Nominees will be evaluated based on their education, training, and experience relating to land use issues and knowledge of the geographical area of the Committee. Nominees must also demonstrate a commitment to collaborative resource decision-making. The Obama Administration prohibits individuals who are currently Federally registered lobbyists from serving on all Federal Advisory Committee Act (FACA) and non-FACA boards, committees or councils.

You may make nominations for the following categories of interest:

Category One—5 persons who:

1. Represent organized labor or non-timber forest product harvester groups;

2. Represent developed outdoor recreation, off-highway vehicle users, or commercial recreation activities;

3. Represent energy and mineral development interests; or commercial or recreational fishing interests;

4. Represent the commercial timber industry; or

5. Hold Federal grazing permits, or other land permits, or represent nonindustrial private forest land owners within the area for which the committee is organized.

Category Two—5 persons that represent:

1. Nationally recognized environmental organizations;

2. Regionally or locally recognized environmental organizations;

3. Dispersed recreational activities;

4. Archeological and historical interests; or

5. Nationally or regionally recognized wild horse and burro interest groups, wildlife or hunting organizations, or watershed associations.

Category Three—5 persons that:

1. Hold State elected office (or a designee);

2. Hold county or local elected office;

3. Represent American Indian Tribes within or adjacent to the area for which the committee is organized;

4. Are school officials or teachers; or

5. Represent the affected public at large.

The Resource Advisory Committees will be based on western Oregon BLM District boundaries. Specifically, the BLM Committees are as follows:

Coos Bay District Resource Advisory Committee advises Federal officials on projects associated with Federal lands within the Coos Bay District which includes lands in Coos, Curry, Douglas, and Lane Counties.

Eugene District Resource Advisory Committee advises Federal officials on projects associated with Federal lands within the Eugene District boundary which includes lands in Benton, Douglas, Lane, and Linn Counties.

Medford District Resource Advisory Committee advises Federal officials on projects associated with Federal lands within the Medford District and Klamath Falls Resource Area in the Lakeview District which includes lands in Coos, Curry, Douglas, Jackson, and Josephine Counties and small portions of west Klamath County.

Roseburg District Resource Advisory Committee advises Federal officials on projects associated with Federal lands within the Roseburg District boundary which includes lands in Douglas, Lane, and Jackson Counties.

Salem District Resource Advisory Committee advises Federal officials on projects associated with Federal lands within the Salem District boundary which includes lands in Benton, Clackamas, Clatsop, Columbia, Lane, Lincoln, Linn, Marion, Multnomah, Polk, Tillamook, Washington, and Yamhill Counties.

Authority: Title VI, Section 205 of Pub. L. 110-343.

Edward W. Shepard,
State Director Oregon/Washington.

[FR Doc. 2010-9990 Filed 4-28-10; 8:45 am]

BILLING CODE 4310-33-P